DEPARTMENT OF JUSTICE

[OMB Number 1124-0002]

National Security Division; Agency Information Collection Activities: Proposed Collection; Comments Requested

ACTION: Correction to OMB Number 1124-0004 30-Day Notice of Information Collection Under Review: Supplemental Statement (Foreign Agents).

The Department of Justice (DOJ), National Security Division (NSD), will be submitting the following information collection request to the Office of Management and Budget (OMB) for review and approval in accordance with the Paperwork Reduction Act of 1995. The proposed information collection is published to obtain comments from the public and affected agencies. This proposed information collection was previously published in the Federal Register Volume 72, Number 128, page 36722 on month July 5, 2007, allowing for a 60-day comment period.

The purpose of this notice is to allow for an additional 30 days for public comment until October 10, 2007. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of currently approved collection.

(2) Title of the Form/Collection: Supplemental Statement (Foreign Agents)

(3) Agency form number, if any, and the applicable component of the Department of Justice sponsoring the collection: Form Number: NSD-2. National Security Division, U.S. Department of Justice.

(4) Affected public who will be asked or required to respond, as well as a brief abstract: Primary: Business or other for-profit, Not-for-profit institutions, and individuals or households. The form is required by the provisions of the Foreign Agents Registration Act of 1938, as amended, 22 U.S.C. 611, et seq., must be filed by the foreign agent within thirty days after the expiration of each period of six months succeeding the original filing date, and must contain accurate and complete information with respect to the foreign agent's activities, receipts and expenditures.

(5) An estimate of the total number of respondents and the amount of time estimated for an average response: The estimated total number ofrespondents is 491, who will complete a response within 1.375 hours (1 hour and 22 minutes) 2 responses annually.

(6) An estimate of the total burden (in hours) associated with the collection: The estimated total public burden associated with this information collection is 1,350 hours annually.

If additional information is required contact: Lynn Bryant, Department Clearance Officer, United States Department of Justice, Policy and Planning Staff, Justice Management Division, Suite 1600, Patrick Henry Building, 601 D Street, NW., Washington, DC 20530.

Dated: September 4, 2007.
Lynn Bryant,
Department Clearance Officer, PRA, United States Department of Justice.

[FR Doc. E7-17739 Filed 9-7-07; 8:45 am]

BILLING CODE 4410-PF-P